DEPARTMENT OF TRANSPORTATION

Federal Aviation Administration

14 CFR Part 39

[Docket No. FAA-2005-22632; Directorate Identifier 2005-NM-158-AD]

RIN 2120-AA64

Airworthiness Directives; Bombardier Model CL-600-2C10 (Regional Jet Series 700, 701, & 702), CL-600-2D15 (Regional Jet Series 705), and CL-600-2D24 (Regional Jet Series 900) Airplanes

AGENCY: Federal Aviation Administration (FAA), Department of Transportation (DOT).

ACTION: Notice of proposed rulemaking (NPRM).

SUMMARY: The FAA proposes to adopt a new airworthiness directive (AD) for certain Bombardier Model CL-600-2C10 (Regional Jet Series 700, 701, & 702), CL-600-2D15 (Regional Jet Series 705), and CL-600-2D24 (Regional Jet Series 900) airplanes. This proposed AD would require repetitive inspections for cracking or fracturing of the output links of the power control unit (PCU) for the ailerons, and related investigative and corrective actions if necessary. This proposed AD results from reports of fractured output links of the aileron PCU. We are proposing this AD to prevent failure of an output link of the aileron PCU, which, if both links on one aileron fail, could result in reduced lateral control of the airplane.

DATES: We must receive comments on this proposed AD by November 7, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Daniel Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Comments Invited

We invite you to submit any relevant written data, views, or arguments regarding this proposed AD. Send your comments to an address listed in the ADDRESSES section. Include the docket number “FAA-2005-22632; Directorate Identifier 2005-NM-158-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Transport Canada Civil Aviation (TCCA), which is the airworthiness authority for Canada, notified us that an unsafe condition may exist on certain Bombardier Model CL-600-2C10 (Regional Jet Series 700, 701, & 702), CL-600-2D15 (Regional Jet Series 705), and CL-600-2D24 (Regional Jet Series 900) airplanes. TCCA advises that fractured output links of the power control unit (PCU) for the ailerons have been found on in-service Bombardier Model CL-600-2B19 (Regional Jet Series 100 & 440) airplanes. Cracking or fracture of an output link of the aileron PCU, if not corrected, could result in failure of the link. Failure of one link may be a dormant (undetected) failure. However, failure of both output links on one aileron could result in reduced lateral control of the airplane.

The output links of the aileron PCU on certain Bombardier Model CL-600-2C10 (Regional Jet Series 700, 701, & 702), CL-600-2D15 (Regional Jet Series 705), and CL-600-2D24 (Regional Jet Series 900) airplanes are similar to those on the affected Bombardier Model CL-600-2B19 (Regional Jet Series 100 & 440) airplanes. Therefore, those Bombardier Model CL-600-2C10 (Regional Jet Series 700, 701, & 702), CL-600-2D15 (Regional Jet Series 705), and CL-600-2D24 (Regional Jet Series 900) airplanes may be subject to the unsafe condition revealed on the Bombardier Model CL-600-2B19 (Regional Jet Series 100 & 440) airplanes.

Other Relevant Rulemaking

We previously issued AD 2005-03-13, amendment 39-13969 (70 FR 7845, February 16, 2005). AD 2005-03-13 requires doing repetitive inspections for fractures and cracks of the links of the aileron PCU; replacing any fractured/cracked link; and doing applicable related investigative and corrective actions, if necessary. The actions required by that AD, which applies to certain Bombardier Model CL-600-2B19 (Regional Jet Series 100 and 440) airplanes, are similar to those that would be required by this proposed AD for Bombardier Model CL-600-2C10 (Regional Jet Series 700, 701, & 702), CL-600-2D15 (Regional Jet Series 705), and CL-600-2D24 (Regional Jet Series 900) airplanes.

Relevant Service Information

Bombardier has issued Alert Service Bulletin A670BA-27-023, including Appendix A, Revision A, dated May 18, 2005. The service bulletin describes procedures for repetitive detailed inspections for cracking or fracturing of the output links of the aileron PCU, and related investigative and corrective actions if necessary. If any fractured or cracked link is found, the service bulletin specifies a corrective action of replacing the fractured/cracked link with a new link. The service bulletin also describes related investigative actions and corrective actions that must be done if any fractured or cracked link is found, which include:

• Measuring the torque value of the forward and aft attachment bolts for both the damaged PCU output link and the adjacent PCU output link installed on the same aileron.

• For any damaged PCU output link, testing and measuring, as applicable, to determine if there is any mismatch between the PCU output link and the aileron lugs.

• For any damaged PCU output link, performing an eddy current inspection for cracking of the aileron lugs and flange bushings of the aileron lugs.

• If any damage (including but not limited to cracking) of an aileron lug or flange bushing is found, contacting the manufacturer for instructions.

• Reporting results of all inspections, measurements, and tests, to the manufacturer.

TCCA mandated the service information and issued Canadian airworthiness directive CF-2005-23, dated June 29, 2005, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for airplanes of this type design that are certificated for operation in the United States.

Therefore, we are proposing this AD, which would require accomplishing the actions specified in the service information described previously, except as discussed under “Difference Among the Proposed AD, Canadian Airworthiness Directive, and Service Information.” The proposed AD would also require sending the inspection results to the manufacturer.

Difference Among the Proposed AD, Canadian Airworthiness Directive, and Service Information

The Canadian airworthiness directive and service bulletin specify to contact the manufacturer for instructions on how to disposition certain damaged parts. This proposed AD would require you to disposition those parts using a method that we or TCCA (or its delegated agent) approve. In light of the type of action that would be required to address the unsafe condition, and consistent with existing bilateral airworthiness agreements, we have determined that, for this proposed AD, disposition of a damaged part in a manner that we or TCCA approve would be acceptable for compliance with this proposed AD.

Clarification of Inspection Terminology

The Canadian airworthiness directive specifies performing a “detailed visual” inspection for cracking or fracturing of the output links of the aileron PCU. We refer to this inspection as a “detailed inspection.” We have included the definition for a detailed inspection in a note in the proposed AD. (This terminology is consistent with the terminology used in the service information.)

Interim Action

We consider this proposed AD interim action. The inspection reports that are required by this AD will enable the manufacturer to obtain better insight into the nature, cause, and extent of the cracking, and eventually to develop final action to address the unsafe condition. Once final action has been identified, we may consider further rulemaking.

Costs of Compliance

This proposed AD would affect about 205 airplanes of U.S. registry. The proposed inspection would take about 1 work hour per airplane, per inspection cycle, at an average labor rate of $65 per work hour. Based on these figures, the estimated cost of this proposed inspection for U.S. operators is $13,325, or $65 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Bombardier, Inc. (Formerly Canadair): Docket No. FAA-2005-22632; Directorate Identifier 2005-NM-158-AD.

Comments Due Date

(a) The FAA must receive comments on this AD action by November 7, 2005.

Affected ADs

(b) None.

Applicability

(c) This AD applies to the Bombardier airplanes identified in Table 1 of this AD, certificated in any category.

Table 1.—Applicability
Bombardier airplane models | Serial Nos.
CL-600-2C10 (Regional Jet Series 700, 701, & 702) | 10003 and subsequent.
CL-600-2D15 (Regional Jet Series 705) | 15001 and subsequent.
CL-600-2D24 (Regional Jet Series 900) | 15001 and subsequent.

Unsafe Condition

(d) This AD results from reports of fractured output links of the power control unit (PCU) for the ailerons. We are issuing this AD to prevent failure of an output link of the aileron PCU, which, if both links on one aileron fail, could result in reduced lateral control of the airplane.

Compliance

(e) You are responsible for having the actions required by this AD performed within the compliance times specified, unless the actions have already been done.

Repetitive Inspections, Related Investigative Actions, and Corrective Actions

(f) Prior to the accumulation of 2,000 total flight hours, or within 550 flight hours after the effective date of this AD, whichever is later: Do a detailed inspection for cracking or fracturing of the output links of the aileron PCU and do all related investigative and corrective actions, as applicable, in accordance with the Accomplishment Instructions of Bombardier Alert Service Bulletin A670BA-27-023, including Appendix A, Revision A, dated May 18, 2005, except as provided by paragraph (g) of this AD. Thereafter, repeat the inspection and applicable related investigative and corrective actions at intervals not to exceed 1,000 flight hours. Any applicable related investigative and corrective actions must be done before further flight after the inspection.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Exception to Corrective Action Instructions

(g) If any cracking or other damage is found on an aileron lug or flange bushing during any inspection required by this AD, and the service bulletin recommends contacting Bombardier for appropriate action: Before further flight, disposition and replace the cracked or damaged aileron lug or flange bushing with a new part, in accordance with a method approved by the Manager, New York Aircraft Certification Office (ACO), FAA; or Transport Canada Civil Aviation (TCCA) (or its delegated agent).

Reporting

(h) Submit a report of the findings (both positive and negative) of the inspections required by paragraph (f) of this AD to Bombardier Aerospace; Attention: Christian Holzl, dept. 508; Location S666 1422 024; 13100 Highway 50; Mirabel, Quebec, Canada, J7M 3C6; fax (450) 476-7321. Submit the report at the applicable time specified in paragraph (h)(1) or (h)(2) of this AD. The report must include the airplane serial number, the total accumulated flight cycles and flight hours on the airplane, the date of the inspection, the total accumulated flight cycles and flight hours at the last “C” check, the serial number of each PCU, and the results of all inspections, tests, and measurements done in accordance with paragraph (f) of this AD. Submitting Appendix A of Bombardier Alert Service Bulletin A670BA-27-023, including Appendix A, Revision A, dated May 18, 2005, is an acceptable means of complying with this requirement. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was done prior to the effective date of this AD: Submit the report within 30 days after the effective date of this AD.

Actions Accomplished Previously

(i) Inspections and corrective actions done, and reports submitted, before the effective date of this AD in accordance with Bombardier Alert Service Bulletin A670BA-27-023, including Appendix A, dated May 3, 2005, are acceptable for compliance with the corresponding requirements of paragraphs (f) and (h) of this AD.

Alternative Methods of Compliance (AMOCs)

(j)(1) The Manager, New York ACO, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) Canadian airworthiness directive CF-2005-23, dated June 29, 2005, also addresses the subject of this AD.

Issued in Renton, Washington, on September 30, 2005.
Ali Bahrami,
Manager, Transport Airplane Directorate, Aircraft Certification Service.

[FR Doc. 05-20271 Filed 10-6-05; 8:45 am]

BILLING CODE 4910-13-P